DEPARTMENT OF COMMERCE

National Oceanic and Atmospheric Administration

Proposed Information Collection; Comment Request: Socioeconomics of Maritime Heritage Divers in National Marine Sanctuaries and Proposed Sanctuaries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 15, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Dr. Danielle Schwarzmann 240-533-0705 or danielle.schwarzmann@noaa.gov.

SUPPLEMENTARY INFORMATION:

I. Abstract

This request is for a new information collection to benefit resource managers in sanctuaries and proposed sanctuaries (minimum of two sites) that protect marine heritage resources. Maritime heritage preserves and protects valuable historical, cultural and archaeological resources within coastal, marine and Great Lake environments. Maritime heritage resources include prehistoric sites, shipwrecks and naval battlefields. The National Ocean Service (NOS) proposes to collect information from passengers aboard dive and SCUBA operations to ascertain the operator knowledge, attitudes and perceptions towards the sanctuary or proposed sanctuary and the number of person-days of diving in the sanctuary/proposed sanctuary and the larger region at a minimum of two sites.

Up-to-date socioeconomic data is needed to support the conservation and management goals of marine heritage resources and to satisfy legal mandates under the National Marine Sanctuaries Act (16 U.S.C. 1431 et seq.), Endangered Species Act (16 U.S.C. 1531 et seq.), Marine Mammal Protection Act (16 U.S.C. 1361 et seq.). National Environmental Policy Act (42 U.S.C. 4321), Executive Order 12866 (E.O. 12866), and other pertinent statutes.

The Office of National Marine Sanctuaries (ONMS) has a data gap in the economic value of maritime heritage resources. The information is about person-days and economic value of diving on maritime heritage sites is not available to assess the possible economic benefits of maritime heritage protection to the local economy, or the potential impact on marine and Great Lakes recreation businesses. The type of data targeted for this collection; that is, information on expenditures, main purpose for their trip, knowledge, attitudes and perceptions of divers towards maritime heritage resources and the sanctuary/proposed sanctuary. Thus, current economic information on the importance of dive and SCUBA operations to the local tourism industry is required. The primary focus for the survey will be to gather data on the non-consumptive, market value of diving on maritime heritage resources. Specifically, researchers will collect data to determine the contribution of divers to the economy of marine heritage resources in sanctuaries and proposed sanctuaries.

II. Method of Collection

On-site interviews will be completed. Sanctuary staff or representatives will contact each dive operation and survey passengers aboard the dive boats at the end of their trip. An on-site survey will be supplemented by either mailback follow-up surveys or on-line surveys for data like expenditures and importance-satisfaction ratings that cannot be done face-to-face.

III. Data

OMB Control Number: 0648-XXXX.

Form Number: None.

Type of Review: Regular submission (request for a new information collection).

Affected Public: Individuals or households.

Estimated Number of Respondents: 1,200.

Estimated Time per Response: 15-20 minutes on-site plus 15-20 minutes for expenditure survey (mail or on-line) and 10 minutes for an importance-satisfaction (mail or on-line). At most, this will be 50 minutes per completed survey (includes the three modules)

Estimated Total Annual Burden Hours: 1,000.

Estimated Total Annual Cost to Public: Other than burden hours there will be no cost to the public.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 13, 2017.
Sarah Brabson,
NOAA PRA Clearance Officer.

[FR Doc. 2017-12567 Filed 6-15-17; 8:45 am]

BILLING CODE 3510-NK-P